DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; or Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On November 4, 2019, OFAC determined that the property and interests in property subject to U.S. jurisdiction of the following persons are blocked under the relevant sanctions authorities listed below.

Individuals

1. GOLPAYEGANI, Mohammad Mohammadi, Iran; DOB 1943; POB Golpayegan, Iran; Additional Sanctions Information—Subject to Secondary Sanctions; Gender Male (individual) [IRAN-EO13876].

Designated pursuant to section 1(a)(ii)(D) of E.O. 13876 for having acted or purported to act for or on behalf of, directly or indirectly, the SUPREME LEADER'S OFFICE, a person whose property and interests in property are blocked pursuant to E.O. 13876.

2. VELAYATI, Ali Akbar, Iran; DOB 25 Jun 1945; POB Shemiran, Tehran, Iran; Additional Sanctions Information—Subject to Secondary Sanctions; Gender Male (individual) [IRAN-EO13876].

Designated pursuant to section 1(a)(ii)(D) of E.O. 13876 for having acted or purported to act for or on behalf of, directly or indirectly, the SUPREME LEADER OF IRAN, a person whose property and interests in property are blocked pursuant to E.O. 13876.

3. RAISI, Ebrahim (a.k.a. RA'EESI, Sayyid Ibrahim; a.k.a. RAISOL-SADATI, Seyyid Ebrahim; a.k.a. RAIS-O-SADAT, Sayyid Ebrahim), Iran; DOB 14 Dec 1960; alt. DOB 01 Nov 1960 to 30 Nov 1960; alt. DOB 01 Dec 1960 to 31 Dec 1960; POB Masshad, Iran; nationality Iran; Additional Sanctions Information—Subject to Secondary Sanctions; Gender Male (individual) [IRAN-EO13876].

Designated pursuant to section 1(a)(ii)(B) of E.O. 13876 for being a person appointed to a position as a state official of Iran by the SUPREME LEADER OF IRAN, a person whose property and interests in property are blocked pursuant to E.O. 13876.

4. DEHGHAN, Hossein (a.k.a. DEHGHAN POUDEH, Hossein), Iran; DOB 1957; POB Poudeh, Isfahan, Iran; nationality Iran; Additional Sanctions Information—Subject to Secondary Sanctions; Gender Male (individual) [IRAN-EO13876].

Designated pursuant to section 1(a)(ii)(B) of E.O. 13876 for being a person appointed to a position as a state official of Iran by the SUPREME LEADER OF IRAN, a person whose property and interests in property are blocked pursuant to E.O. 13876.

5. HAGHANIAN, Vahid, Iran; DOB 01 Jan 1961 to 31 Dec 1962; POB Iran; nationality Iran; Additional Sanctions Information—Subject to Secondary Sanctions; Gender Male (individual) [IRAN-EO13876].

Designated pursuant to section 1(a)(ii)(D) of E.O. 13876 for having acted or purported to act for or on behalf of, directly or indirectly, the SUPREME LEADER OF IRAN, a person whose property and interests in property are blocked pursuant to E.O. 13876.

6. HADDAD-ADEL, Gholamali (a.k.a. HADDAD ADEL, Gholamali; a.k.a. HADDAD ADEL, Gholam-Ali; a.k.a. HADDADADEL, Gholam-Ali), Iran; DOB 1945; POB Tehran, Iran; nationality Iran; Additional Sanctions Information—Subject to Secondary Sanctions; Gender Male (individual) [IRAN-EO13876].

Designated pursuant to section 1(a)(ii)(D) of E.O. 13876 for having acted or purported to act for or on behalf of, directly or indirectly, the SUPREME LEADER OF IRAN, a person whose property and interests in property are blocked pursuant to E.O. 13876.

7. KHAMENEI, Mojtaba (a.k.a. KHAMENEI, Sayyed Mojtaba Hosseini), Iran; DOB 1969; POB Mashhad, Iran; nationality Iran; Additional Sanctions Information—Subject to Secondary Sanctions; Gender Male (individual) [IRAN-EO13876].

Designated pursuant to section 1(a)(ii)(D) of E.O. 13876 for having acted or purported to act for or on behalf of, directly or indirectly, the SUPREME LEADER OF IRAN, a person whose property and interests in property are blocked pursuant to E.O. 13876.

8. BAGHERI, Mohammad (a.k.a. BAGHERI AFSHORDI, Mohammad; a.k.a. BAGHERI, Mohammed; a.k.a. BAQERI, Mohammad Hossein), Iran; DOB 01 Jan 1960 to 31 Dec 1960; POB Tehran, Iran; nationality Iran; Additional Sanctions Information—Subject to Secondary Sanctions; Gender Male (individual) [IRAN-EO13876].

Designated pursuant to section 1(a)(ii)(B) of E.O. 13876 for being a person appointed to a position as a state official of Iran by the SUPREME LEADER OF IRAN, a person whose property and interests in property are blocked pursuant to E.O. 13876.

9. RASHID, Gholam Ali (a.k.a. RASHID, Gholamali), Iran; DOB 01 Jan 1953 to 31 Dec 1954; POB Dezful, Iran; nationality Iran; Additional Sanctions Information—Subject to Secondary Sanctions; Gender Male (individual) [IRAN-EO13876].

Designated pursuant to section 1(a)(ii)(B) of E.O. 13876 for being a person appointed to a position as a state official of Iran by the SUPREME LEADER OF IRAN, a person whose property and interests in property are blocked pursuant to E.O. 13876.

Entity

1. ARMED FORCES GENERAL STAFF (a.k.a. GENERAL STAFF OF IRANIAN ARMED FORCES; a.k.a. “AFGS”), Iran; Additional Sanctions Information—Subject to Secondary Sanctions [IRAN-EO13876].

Designated pursuant to section 1(a)(ii)(D) of E.O. 13876 for being owned or controlled by, or having acted or purported to act for or on behalf of, directly or indirectly, the SUPREME LEADER OF IRAN, a person whose property and interests in property are blocked pursuant to E.O. 13876.

Dated: November 4, 2019.
Andrea M. Gacki,
Director, Office of Foreign Assets Control.

[FR Doc. 2019-24613 Filed 11-8-19; 8:45 am]

BILLING CODE 4810-AL-P